DEPARTMENT OF TRANSPORTATION

Federal Aviation Administration

Notice of Passenger Facility Charge (PFC) Approvals and Disapprovals

AGENCY: Federal Aviation Administration (FAA), DOT.

ACTION: Monthly Notice of PFC Approvals and Disapprovals. In May 2010, there were seven applications approved. Additionally, 22 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 1A158.29.

PFC Applications Approved

Public Agency: City of Los Angeles, California.

Application Number: 10-07-C-00-LAX.

Application Type: Impose and use a PFC.

PFC Level: $4.50.

Total PFC Revenue Approved in this Decision: $855,000,000.

Earliest Charge Effective Date: June 1, 2012.

Estimated Charge Expiration Date: March 1, 2019.

Classes of Air Carriers Not Required To Collect PFC'S:

(1) Air taxi/commercial operators—nonscheduled/on-demand air carriers, filing FAA Form 1800-31; and (2) large certificated air carriers, filing Department of Transportation Form T-100, and enpianing less than 2,500 passengers annually at Los Angeles International Airport (LAX).

Determination: Approved. Based on information contained in the public agency's application, the FAA has determined that each proposed class accounts for less than 1 percent of the total annual enplanements at LAX.

Brief Description of Project Partially Approved for Collection and Use: Bradley West project.

Determination: The FAA determined that approximately 6,628 square feet of space identified by the public agency as being totally or partially eligible was totally ineligible for PFC funding. In addition, the proration of utility space must be recalculated to account for the additional ineligible space.

Decision Date: May 10, 2010.

For Further Information Contact: Darlene Williams, Los Angeles Airports District Office, (310) 725-3625.

Public Agency: County of Campbell/Gillette—Campbell County Airport Board, Gillette, Wyoming.

Application Number: 10-08-C-00-GCC.

Application Type: Impose and use a PFC.

PFC Level: $4.50.

Total PFC Revenue Approved in this Decision: $426,381.

Earliest Charge Effective Date: November 1, 2011.

Estimated Charge Expiration Date: October 1, 2015.

Class of Air Carriers Not Required To Collect PFC'S: Air taxi/Commercial operators filing FAA Form 1800-31.

Determination: Approved. Based on information contained in the public agency's application, the FAA has determined that the proposed class accounts for less than 1 percent of the total annual enplanements at Gillette—Campbell County Airport.

Brief Description of Projects Approved for Collection and Use:

Expand terminal parking lot.

Repair and maintain runway 16/34 pavement.

PFC administration.

Repair and maintain runway 03/21 pavement.

Repair and maintain taxiway A pavement.

Repair and maintain taxiway B pavement.

Repair and maintain taxiway C pavement.

Repair and maintain taxiway D pavement.

Repair and maintain taxiway E pavement.

Repair and maintain apron 1 pavement.

Repair and maintain apron 2 pavement.

Decision Date: May 14, 2010.

For Further Information Contact: Chris Schaffer, Denver Airports District Office, (303) 342-1258.

Public Agency: Port Authority of New York and New Jersey, New York, New York.

Application Number: 10-07-C-00-EWR.

Application Type: Impose and use a PFC.

PFC Level: $4.50.

Total PFC Revenue Approved in this Decision: $191,631,217.

Earliest Charge Effective Date: March 1, 2011.

Estimated Charge Expiration Date: February 1, 2014.

Class of Air Carriers Not Required to Collect PFC'S: Non-scheduled/on-demand air carriers, filing FAA Form 1800-31.

Determination: Approved. Based on information contained in the public agency's application, the FAA has determined that the proposed class accounts for less than 1 percent of the total annual enplanements at Newark Liberty International Airport (EWR).

Brief Description of Projects Approved for Collection at EWR, John F. Kennedy International Airport (JFK), Laguardia Airport (LGA), and Stewart International Airport (SWF) and Use at EWR At A $4.50 PFC Level:

Security enhancement projects for the physical protection of terminal building frontages.

Multiple taxiway entrance construction.

Fire alarm upgrade.

Brief Description of Projects Approved for Collection at EWR, JFK, LGA, and SWF and Use at JFK at a $4.50 PFC Level:

Security enhancement projects for the physical protection of terminal building frontages.

Aircraft ramp expansion and hangar demolition.

Reconstruction of runway 13R/37L.

Brief Description of Project Approved for Collection at EWR, JFK, LGA, and SWF and Use at LGA at a $4.50 PFC Level: Rehabilitation of runway 4/22.

Brief Description Of Project Partially Approved for Collection at EWR, JFK, LGA, and SWF and Use at LGA at a $4.50 PFC Level: Security enhancement projects for the physical protection of terminal building frontages.

Determination: After submission of the PEG application, the public agency received an Airport Improvement Program (AIP) grant for partial funding of this project. Therefore, the approved PFC amount was reduced by the amount of the AIP grant.

Brief Description of Project Approved for Collection AT EWR, JFK, LGA, and SWF and Use at LGA at a $3.00 PFC Level: Planning for a centralized deicing facility.

Brief Description of Project Approved for Collection AT EWR, JFK, LGA, and SWF and Use at LGA at a $3.00 PFC Level: PEG planning and program administration.

Decision Date: May 17, 2010.

For Further Information Contact: Andrew Brooks, New York Airports District Office, (516) 227-3816.

Public Agency: Port Authority of New York and New Jersey, New York, New York.

Application Number: 10-07-C-00-JFK.

Application Type: Impose and use a PFC.

PFC Level: $4.50.

Total PFC Revenue Approved in This Decision: $255,794,990.

Earliest Charge Effective Date: March 1, 2011.

Estimated Charge Expiration Date: February 1, 2014.

Class of Air Carriers Not Required To Collect PEG'S: Non-scheduled/on-demand air carriers, filing FAA Form 1800-31.

Determination: Approved. Based on information contained in the public agency's application, the FAA has determined that the proposed class accounts for less than 1 percent of the total annual enplanements at JFK.

Brief Description of Projects Approved for Collection at EWR, JFK, LGA, and SWF and Use at EWR at a $4.50 PFC Level:

Security enhancement projects for the physical protection of terminal building frontages.

Multiple taxiway entrance construction.

Fire alarm upgrade.

Brief Description of Projects Approved for Collection at EWR, JFK, LGA, and SWF and Use at JFK at a $4.50 PFC Level:

Security enhancement projects for the physical protection of terminal building frontages.

Aircraft ramp expansion and hangar demolition.

Reconstruction of runway 13R/37L.

Brief Description of Project Approved for Collection at EWR, JFK, LGA, and SWF and Use at LGA at a $4.50 PFC Level: Rehabilitation of runway 4/22.

Brief Description of Project Partially Approved for Collection at EWR, JFK, LGA, and SWF and Use at LGA at a $4.50 PFC Level: Security enhancement projects for the physical protection of terminal building frontages.

Determination: After submission of the PFC application, the public agency received an airport improvement program (AIP) grant for partial funding of this project. Therefore, the approved PFC amount was reduced by the amount of the AIP grant.

Brief Description of Project Approved For Collection at EWR, JFK, LGA, and SWF and Use at JFK at a $3.00 PFC Level: Planning for a centralized deicing facility.

Brief Description of Project Approved for Collection at EWR, JFK, LGA, and SWF and Use at EWR, JFK, LGA and SWF at a $3.00 PFC Level: PFC planning and program administration.

Decision Date: May 17, 2010.

For Further Information Contact: Andrew Brooks, New York Airports District Office, (516) 227-3816.

Public Agency: Port Authority of New York And New Jersey, New York, New York.

Application Number: 10-07-C-00-LGA.

Application Type: Impose and use a PFC.

PFC Level: $4.50.

Total PFC Revenue Approved in This Decision: $121,561,393.

Earliest Charge Effective Date: March 1, 2011.

Estimated Charge Expiration Date: February 1, 2014.

Class Of Air Carriers Not Required To Collect PFC's: Non-Scheduled/On-Demand Air Carriers, Filing FAA Form 1800-31.

Determination: Approved. Based on information contained in the public agency's application, the FAA has determined that the proposed class accounts for less than 1 percent of the total annual enplanements at LGA.

Brief Description of Projects Approved for Collection at EWR, JFK, LGA, and SWF and Use at EWR at a $4.50 PFC Level:

Security Enhancement Projects for the Physical Protection Of Terminal Building Frontages.

Multiple Taxiway Entrance Construction.

Fire Alarm Upgrade.

Brief Description of Projects Approved for Collection at EWR, JFK, LGA, and SWF and Use at JFK at a $4.50 PFC Level:

Security Enhancement Projects for the Physical Protection Of Terminal Building Frontages.

Aircraft Ramp Expansion and Hangar Demolition.

Reconstruction of Runway 13R/37L.

Brief Description of Project Approved for Collection at EWR, JFK, LGA, and SWF and Use at LGA at a $4.50 PFC Level: Rehabilitation Of Runway 4/22.

Brief Description of Project Partially Approved for Collection at EWR, JFK, LGA, and SWF and Use at LGA at a $4.50 PFC Level: Security Enhancement Projects For The Physical Protection of Terminal Building Frontages.

Determination: After Submission of the PFC Application, The Public Agency Received an Airport Improvement Program (AIP) Grant for Partial Funding of this project. Therefore, the approved PFC amount was reduced by the Amount of the AIP grant.

Brief Description of Project Approved for Collection at EWR, JFK, LGA, and SWF and Use at JFK at a $3.00 PFC Level: Planning for a centralized deicing facility.

Brief Description of Project Approved for Collection at EWR, JFK, LGA, and SWF and Use at EWR, JFK, LGA and SWF at a $3.00 PFC Level: PFC Planning and Program Administration.

Decision Date: May 17, 2010.

For Further Information Contact: Andrew Brooks, New York Airports District Office, (516) 227-3816.

Public Agency: Port Authority Of New York And New Jersey, New York, New York.

Application Number: 10-04-C-00-SWF.

Application Type: Impose and use a PFC.

PFC Level: $4.50.

Total PFC Revenue Approved in This Decision: $4,415,202.

Earliest Charge Effective Date: July 1, 2010.

Estimated Charge Expiration Date: February 1, 2014.

Class of Air Carriers Not Required To Collect PFC'S: Non-Scheduled/On-Demand Air Carriers, filing FAA form 1800-31.

Determination: Approved. Based on information contained in the public agency's application, the FAA has determined that the proposed class accounts for less than 1 percent of the total annual enplanements at SWF.

Brief Description of Projects Approved for Collection at EWR, JFK, LGA, and SWF and Use at EWR at a $4.50 PFC Level:

Security Enhancement Projects for the Physical Protection of Terminal Building Frontages.

Multiple Taxiway Entrance Construction.

Fire Alarm Upgrade.

Brief Description of Projects Approved for Collection at EWR, JFK, LGA, and SWF and Use at JFK at a $4.50 PFC Level:

Security Enhancement Projects for the Physical Protection of Terminal Building Frontages.

Aircraft Ramp Expansion and Hangar Demolition.

Reconstruction of Runway 1 3r/37l.

Brief Description of Project Approved for Collection at EWR, JFK, LGA, and SWF and Use at LGA at a $4.50 PFC Level: Rehabilitation of Runway 4/22.

Brief Description of Project Partially Approved for Collection at EWR, JFK, LGA, and SWF and Use at LGA at a $4.50 PFC Level: Security Enhancement Projects for the Physical Protection Of Terminal Building Frontages.

Determination: After Submission of the PFC Application, the Public Agency Received an Airport Improvement Program (AIP) Grant for Partial Funding of this Project. Therefore, the approved FEC amount was reduced by the amount of the AIP grant.

Brief Description of Project Approved for Collection At EWR, JFK, LGA, and SWF and Use at JFK at a $3.00 PFC Level: Planning for a Centralized Deicing Facility.

Brief Description of Project Approved for Collection at EWR, JFK, LGA, and SWF and Use at EWR, JFK, LGA and SWF at a $3.00 PFC Level: PFC Planning and Program Administration.

Decision Date: May 17, 2010.

For Further Information Contact: Andrew Brooks, New York Airports District Office, (516) 227-3816.

Public Agency: City Of Eugene, Oregon.

Application Number: 10-10-C-00-Eug.

Application Type: Impose And Use A Fec.

PFC Level: $4.50.

Total FEC Revenue Approved in This Decision: $2,342,214.

Earliest Charge Effective Date: July 1, 2010.

Estimated Charge Expiration Date: March 1, 2012.

Class of Air Carriers Not Required To Collect PFC's: None.

Brief Description of Projects Approved for Collection and Use:

Aircraft Rescue And Firefighting Station.

Runway 18r/34l Overlay/Rehabilitation.

Pavement Management Plan.

Security Enhancement.

Mitigate And Fill Ponds, Runway 34l.

Interactive Employee Training.

Taxiway Signs Replacement.

Passenger Breezeway Rehabilitation.

Decision Date: May 18, 2010.

For Further Information Contact: Trang Tran, Seattle Airports District Office, (425) 227-1662.

Amendment to PFC Approvals
Amendment No., city, state | Amendment approved date | Original approved net PFC revenue | Amended approved net PFC revenue | Original estimated charge exp. date | Amended estimated charge exp. date
05-05-C-04-EWR Newark, NJ | 05/07/10 | $537,262,955 | $537,262,955 | 03/01/11 | 03/01/11
09-06-U-01-EWR Newark, NJ | 05/07/10 | NA | NA | 03/01/11 | 03/01/11
05-05-C-04-JFK New York, NY | 05/07/10 | 613,926,100 | 613,926,100 | 03/01/11 | 03/01/11
09-06-U-01-JFK New York, NY | 05/07/10 | NA | NA | 03/01/11 | 03/01/11
05-05-C-04-LGA New York, NY | 05/07/10 | 400,697,004 | 400,697,004 | 03/01/11 | 03/01/11
09-06-U-01-LGA New York, NY | 05/07/10 | NA | NA | 03/01/11 | 03/01/11
05-05-C-01-BPT Beaumont, TX | 05/07/10 | 290,471 | 179,333 | 05/01/07 | 10/01/06
07-06-C-01-BPT Beaumont, TX | 05/07/10 | 525,062 | 536,594 | 03/01/12 | 06/01/11
*09-05-C-01-ELP El Paso, TX | 05/10/10 | 20,634,000 | 20,634,000 | 08/01/12 | 03/01/13
04-11-C-03-BNA Nashville, TN | 05/11/10 | 75,873,967 | 75,086,772 | 08/01/09 | 08/01/09
06-12-C-04-BNA Nashville, TN | 05/11/10 | 10,066,488 | 10,045,529 | 09/01/10 | 09/01/10
92-01-C-09-SJU San Juan, PR | 05/12/10 | 45,027,956 | 45,868,477 | 05/01/97 | 05/01/97
97-01-C-01-RAP Rapid City, SD | 05/12/10 | 1,087,206 | 700,358 | 01/01/00 | 01/01/00
06-06-C-01-GEG Spokane, WA | 05/12/10 | 24,754,063 | 33,574,266 | 08/01/11 | 08/01/12
09-07-U-01-GEG Spokane, WA | 05/12/10 | NA | NA | 08/01/11 | 08/01/12
08-09-C-01-EUG Eugene, OR | 05/13/10 | 4,450,000 | 2,400,000 | 12/01/11 | 07/01/10
05-05-C-01-MSO Missoula, MT | 05/13/10 | 2,339,144 | 2,203,206 | 06/01/07 | 06/01/07
09-07-0-01-GCC Gillette, WY | 05/21/10 | 433,172 | 33,341 | 11/01/11 | 06/01/09
01-08-C-03-PDX Portland, OR | 05/24/10 | 551,230,600 | 551,230,600 | 05/01/16 | 05/01/16
05-09-C-01-PDX Portland, OR | 05/24/10 | 68,207,251 | 68,207,251 | 03/01/18 | 03/01/18
97-10-0-04-CHO Charlottesville, VA | 05/24/10 | 897,404 | 829,621 | 09/01/03 | 09/01/03
99-13-U-03-CHO Charlottesville, VA | 05/24/10 | NA | NA | 09/01/03 | 09/01/03
Notes: The amendment denoted by an asterisk (*) include a change to the PFC level charged from $3.00 per enplaned passenger to $4.50 per enplaned passenger. For El Paso, TX, this change is effective on August 1, 2010.

Issued in Washington, DC on June 7, 2010.
Joe Hebert,
Manager, Financial Analysis and Passenger Facility Charge Branch.

[FR Doc. 2010-13983 Filed 6-10-10; 8:45 am]

BILLING CODE 4910-13-M